DEPARTMENT OF AGRICULTURE

Rural Housing Service

Rural Business-Cooperative Service

Rural Utilities Service

Farm Service Agency

7 CFR Part 1951

RIN 0560-AF78

Farm Loan Programs Account Servicing Policies—Servicing Shared Appreciation Agreements

AGENCY: Farm Service Agency.

ACTION: Correction to final rule.

SUMMARY: On August 18, 2000, (65 FR 50401) the Agency published a final rule, which reduced the term of future Shared Appreciation Agreements (SAA), lowered the interest rate on amortized SAA recapture, and deducted the value of certain capital improvements from the shared appreciation calculation. This document contains a correction to that rule.

DATES: Effective December 26, 2000.

FOR FURTHER INFORMATION CONTACT: Michael Cumpton, telephone (202) 690-4014; electronic mail: mike_cumpton@wdc.fsa.usda.gov.

SUPPLEMENTARY INFORMATION: The Farm Service Agency published a document amending part 1951 in the Federal Register on August 18, 2000, (65 FR 50401). This document corrects the Federal Register as it appeared. In rule FR Doc. 00-20679, the Agency is correcting § 1951.914(c)(1)(A) to clarify that the increase in square footage that is being considered is “living area” square footage.

In rule FR Doc. 00-20679 published on August 18, 2000, make the following correction:

PART 1951—[CORRECTED]

§ 1951.914 [Corrected]

1. On page 50404, in the third column, in § 1951.914(c)(1)(iii)(A), the second sentence is removed and two new sentences are added in its place to read as follows:

§ 1951.914 Servicing shared appreciation agreements.

* * * * *

(c) * * *

(1) * * *

(iii) * * *

(A) * * * If the new residence is affixed to the real estate security as a replacement for a home which existed on the security property when the Shared Appreciation Agreement was originally executed, or the living area square footage of the original dwelling was expanded, only the value added to the real property by the new or expanded portion of the original dwelling (if it added value) will be deducted from the current market value. Living area square footage will not include square footage of patios, porches, garages, and similar additions.

* * * * *

Signed in Washington, DC, on December 18, 2000.
August Schumacher, Jr.
Under Secretary for Farm and Foreign Agricultural Services.

[FR Doc. 00-32712 Filed 12-22-00; 8:45 am]

BILLING CODE 3410-05-P